NUCLEAR REGULATORY COMMISSION

[Docket Nos. 50-445 and 50-446; NRC-2022-0183]

Vistra Operations Company LLC; Comanche Peak Nuclear Power Plant, Units 1 and 2

AGENCY: Nuclear Regulatory Commission.

ACTION: Draft supplemental environmental impact statement; public meeting and request for comment.

SUMMARY: The U.S. Nuclear Regulatory Commission (NRC) is issuing for public comment draft Supplement 60, License Renewal, to the Generic Environmental Impact Statement (GEIS) for License Renewal of Nuclear Plants, NUREG-1437, regarding the renewal of Facility Operating License Nos. NPF-87 and NPF-89 for an additional 20 years of operation for Comanche Peak Nuclear Power Plant, Units 1 and 2 (CPNPP). The CPNPP facility is in Somervell County, Texas. Possible alternatives to the proposed action (license renewal) include no action and reasonable replacement power alternatives.

DATES: The staff will hold a local public meeting on the draft Supplemental Environmental Impact Statement on December 7, 2023, from 7:00 p.m. to 9:00 p.m. central time, including a presentation on the preliminary findings and a transcribed public comment session. The public meeting details will be announced in the near future on the NRC's Public Meeting Schedule at https://www.nrc.gov/pmns/mtg. Members of the public are invited to submit comments by December 18, 2023. Comments received after this date will be considered, if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2022-0183. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Tam Tran, Office of Nuclear Reactor Regulation, U.S. Nuclear Regulatory Commission, Washington, DC 20555-0001; telephone: 301-415-3617; email: Tam.Tran@nrc.gov.

SUPPLEMENTARY INFORMATION:

I. Obtaining Information and Submitting Comments

A. Obtaining Information

Please refer to Docket ID NRC-2022-0183 when contacting the NRC about the availability of information regarding this document. You may obtain publicly available information related to this document by any of the following methods:

• Federal Rulemaking Website: Go to https://www.regulations.gov and search for Docket ID NRC-2022-0183.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff by email to PDR.Resource@nrc.gov. Draft Supplement 60, License Renewal, to the GEIS for License Renewal of Nuclear Plants, NUREG-1437, is available in ADAMS under Accession No. ML23299A252.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of draft Supplement 60, License Renewal, to the GEIS for License Renewal of Nuclear Plants, NUREG-1437, will be available at the following locations: Somervell County Library, 108 Allen Dr., Glen Rose, TX 76043 and Hood County Library, 222 N Travis St., Granbury, TX 76048.

B. Submitting Comments

The NRC encourages electronic comment submission through the Federal Rulemaking website (https://www.regulations.gov). Please include Docket ID NRC-2022-0183 in the subject line of your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

The NRC is issuing for public comment draft Supplement 60, License Renewal, to the GEIS for License Renewal of Nuclear Plants, NUREG-1437, regarding the renewal of Facility Operating License Nos. NPF-87 and NPF-89 for an additional 20 years of operation for CPNPP. Draft Supplement 60, License Renewal, to the GEIS includes the preliminary analysis that evaluates the environmental impacts of the proposed action and alternatives to the proposed action. The NRC staff's preliminary recommendation is that the adverse environmental impacts of license renewal for CPNPP are not so great that preserving the option of license renewal for energy-planning decisionmakers would be unreasonable.

Dated: October 31, 2023.
For the Nuclear Regulatory Commission.
John M. Moses,
Deputy Director, Division of Rulemaking, Environmental, and Financial Support, Office of Nuclear Material Safety and Safeguards.

[FR Doc. 2023-24294 Filed 11-2-23; 8:45 am]

BILLING CODE 7590-01-P